DEPARTMENT OF TRANSPORTATION

Federal Aviation Administration

14 CFR Part 39

[Docket No. 2002-NM-88-AD; Amendment 39-13189; AD 2003-12-04]

RIN 2120-AA64

Airworthiness Directives; Empresa Brasileira de Aeronautica S.A. (EMBRAER) Model EMB-135 and -145 Series Airplanes

AGENCY: Federal Aviation Administration, DOT.

ACTION: Final rule; correction.

SUMMARY: This document corrects a typographical error that appeared in airworthiness directive (AD) 2003-12-04, which was published in the Federal Register on June 12, 2003 (68 FR 35157). The typographical error resulted in an incorrect part number for the replacement supports for the engine bleed air duct. This AD is applicable to certain EMBRAER Model EMB-135 and -145 series airplanes. This AD requires replacing the four GAMAH clamp/sleeve joints on an engine bleed air duct with new threaded coupling assemblies; for certain airplanes, this AD also requires replacing the two supports for the engine bleed air duct with two new supports.

DATES: Effective July 17, 2003.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: Airworthiness Directive (AD) 2003-12-04, amendment 39-13189, applicable to certain EMBRAER Model EMB-135 and -145 series airplanes, was published in the Federal Register on June 12, 2003 (68 FR 35157). That AD requires replacing the four GAMAH clamp/sleeve joints on an engine bleed air duct with new threaded coupling assemblies; for certain airplanes, that AD also requires replacing the two supports for the engine bleed air duct with two new supports.

As published, paragraph (a)(2) of the AD cites an incorrect part number (145-35923-007) for the replacement supports for the engine bleed air duct. The correct part number is 145-35923-015.

Since no other part of the regulatory information has been changed, the final rule is not being republished in the Federal Register.

The effective date of this AD remains July 17, 2003.

§ 39.13 [Corrected]

On page 35158, in the second column, paragraph (a)(2) of AD 2003-12-04 is corrected to read as follows:

* * * * *

(2) For airplanes having serial numbers listed in paragraph 3.G. of the Accomplishment Instructions of the service bulletin: Replace the two supports for the engine bleed air duct with two new supports having part number 145-35923-015.

* * * * *

Issued in Renton, Washington, on September 3, 2003.
Ali Bahrami,
Acting Manager, Transport Airplane Directorate, Aircraft Certification Service.

[FR Doc. 03-22889 Filed 9-8-03; 8:45 am]

BILLING CODE 4910-13-P